ARCHITECTURAL AND TRANSPORTATION BARRIERS COMPLIANCE BOARD

36 CFR Ch. XI

Unified Agenda of Federal Regulatory and Deregulatory Actions

AGENCY: Architectural and Transportation Barriers Compliance Board.

ACTION: Semiannual regulatory agenda.

SUMMARY: The Architectural and Transportation Barriers Compliance Board submits the following agenda of proposed regulatory activities which may be conducted by the agency during the next 12 months. This regulatory agenda may be revised by the agency during the coming months as a result of action taken by the Board.

ADDRESSES: Architectural and Transportation Barriers Compliance Board, 1331 F Street NW, Suite 1000, Washington, DC 20004-1111.

FOR FURTHER INFORMATION CONTACT: For information concerning Board regulations and proposed actions, contact Gretchen Jacobs, General Counsel (202) 272-0040 (voice) or (202) 272-0062 (TTY).

David M. Capozzi,
Executive Director.

Architectural and Transportation Barriers Compliance Board—Prerule Stage
Sequence No. | Title | Regulation Identifier No.
354 | Americans With Disabilities Act (ADA) Accessibility Guidelines for Transportation Vehicles; Rail Vehicles | 3014-AA42

ARCHITECTURAL AND TRANSPORTATION BARRIERS COMPLIANCE BOARD (ATBCB)

Prerule Stage

354. Americans With Disabilities Act (ADA) Accessibility Guidelines for Transportation Vehicles; Rail Vehicles

E.O. 13771 Designation: Other.

Legal Authority: 42 U.S.C. 12204

Abstract: This rulemaking would update the Access Board's existing accessibility guidelines for transportation vehicles that operate on fixed guideway systems (e.g., rapid rail, light rail, commuter rail, and intercity rail) and are covered by the Americans with Disabilities Act. The existing “rail vehicles” guidelines, which are located at 36 CFR part 1192, subparts C to F and H, were initially promulgated in 1991, and are in need of an update to, among other things, keep pace with newer accessibility-related technologies, harmonize with recently-developed national and international consensus standards, and incorporate recommendations from the Board's Rail Vehicles Access Advisory Committee's 2015 Report. Revisions or updates to the rail vehicles guidelines would be intended to ensure that ADA-covered rail vehicles are readily accessible to and usable by individuals with disabilities. Compliance with any revised rail vehicles guidelines would not be required until these guidelines are adopted by the U.S. Department of Transportation in a separate rulemaking.

Timetable:

Action | Date | FR Cite
Notice of Intent to Establish Advisory Committee | 02/14/13 | 78 FR 10581
Notice of Establishment of Advisory Committee; Appointment of Members | 05/23/13 | 78 FR 30828
ANPRM | 12/00/18 |

Regulatory Flexibility Analysis Required: Undetermined.

Agency Contact: Gretchen Jacobs, General Counsel, Architectural and Transportation Barriers Compliance Board, 1331 F Street NW, Suite 1000, Washington, DC 20004-1111, Phone: 202 272-0040, TDD Phone: 202 272-0062, Fax: 202 272-0081, Email: jacobs@access-board.gov.

RIN: 3014-AA42

[FR Doc. 2018-24093 Filed 11-15-18; 8:45 am]

BILLING CODE 8150-01-P